FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than April 4, 2022.

A. Federal Reserve Bank of St. Louis (Holly A. Rieser, Manager), P.O. Box 442, St. Louis, Missouri 63166-2034. Comments can also be sent electronically to Comments.applications @stls.frb.org:

1. The Alice A. Proietti ABG Trust, Alice A. Proietti, as trustee, and the Joseph T. Proletti ABG Trust, Joseph T. Proietti, as trustee, all of Bentonville, Arkansas; to become members of the Walton Family Group, a group acting in concert, to acquire voting shares of Arvest Bank Group, Inc., Bentonville, Arkansas, and thereby indirectly acquire voting shares of Arvest Bank, Fayetteville, Arkansas.

B. Federal Reserve Bank of Minneapolis (Chris P. Wangen, Assistant Vice President), 90 Hennepin Avenue, Minneapolis, Minnesota 55480-0291:

1. Brice Kluth, Shelby, Montana; Coby Kluth, Whitefish, Montana; John Byron Love, Kalispell, Montana; and Lisette Pickens, Missoula, Montana; to retain voting shares of Prairie Bancshares Corporation, and thereby indirectly retain voting shares of The First State Bank of Shelby, both of Shelby, Montana.

2. Austin McLaen, Forman, North Dakota; to retain voting shares of Napoleon Bancorporation, Inc., Napoleon, North Dakota, and thereby indirectly retain voting shares of Stock Growers Bank, Forman, North Dakota.

Board of Governors of the Federal Reserve System, March 15, 2022.
Michele Taylor Fennell,
Deputy Associate Secretary of the Board.

[FR Doc. 2022-05784 Filed 3-17-22; 8:45 am]

BILLING CODE 6210-01-P